DEPARTMENT OF HOUSING AND URBAN DEVELOPMENT

[Docket No. FR-4821-N-04]

Notice of Proposed Information Collection: Comment Request; Ginnie Mae Multiclass Securities Program Documents

AGENCY: Office of the President of Government National Mortgage Association (Ginnie Mae), HUD.

ACTION: Notice.

SUMMARY: The proposed information collection requirement described below will be submitted to the Office of Management and Budget (OMB) for review, as required by the Paperwork Reduction Act. The Department is soliciting public comments on the subject proposal.

DATES: Comment Due Date: November 10, 2003.

ADDRESSES: Interested persons are invited to submit comments regarding this proposal. Comments should refer to the proposal by name and/or OMB Control Number and should be sent to: Sonya Suarez, Office of Program Operations, Department of Housing and Urban Development, 451—7th Street, SW., Room 6206, Washington, DC 20410.

FOR FURTHER INFORMATION CONTACT: Sonya Suarez, Ginnie Mae, (202) 708-2884 (this is not a toll-free number) for copies of the proposed forms and other available documents.

SUPPLEMENTARY INFORMATION: The Department will submit the proposed information collection to OMB for review, as required by the Paperwork Reduction Act of 1995 (44 U.S.C. Chapter 35, as amended).

The Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

This Notice also lists the following information:

Title of Proposal: Ginnie Mae Multiclass Securities Program Documents.

OMB Control Number, if applicable: 2503-0017.

Description of the need for the information and proposed use: This information collection is required in connection with the operation of the Ginnie Mae Multiclass Securities program. Ginnie Mae's authority to guarantee multiclass instruments is contained in 306(g)(1) of the National Housing Act (“NHA”) (12 U.S.C. 1721(g)(1)), which authorizes Ginnie Mae to guarantee “securities * * * based on or backed by a trust or pool composed of mortgages. * * * ” Multiclass securities are backed by Ginnie Mae Single Class securities, which are backed by government insured or guaranteed mortgages. Ginnie Mae's authority to operate a Multiclass Securities program is recognized in Section 3004 of the Omnibus Budget Reconciliation Act of 1993 (“OBRA”), which amended 306(g)(3) of the NHA (12 U.S.C. 1271(g)(3)) to provide Ginnie Mae with greater flexibility for the Multiclass Securities program regarding fee structure, contracting, industry consultation, and program implementation. Congress annually sets Ginnie Mae's commitment authority to guarantee mortgage-backed securities (“MBS”) pursuant to 306(g)(2) of the NHA (12 U.S.C. 1271(g)(2)). Since the multiclass securities are backed by Ginnie Mae Single Class MBS, Ginnie Mae has already guaranteed the collateral for the multiclass instruments.

The Ginnie Mae Multiclass Securities Program consists of Ginnie Mae Real Estate Mortgage Investment Conduit (“REMIC”) securities and Platinum securities. The Multiclass Securities program provides an important adjunct to Ginnie Mae's secondary mortgage market activities, allowing the private sector to combine and restructure cash flows from Ginnie Mae Single Class MBS into securities that meet unique investor requirements in connection with yield, maturity, and call-option protection. The intent of the Multiclass Securities program is to increase liquidity in the secondary mortgage market and to attract new sources of capital for federally insured or guaranteed residential loans. Under this program, Ginnie Mae guarantees, with the full faith and credit of the United States, the timely payment of principal and interest on Ginnie Mae REMIC and Platinum securities.

Agency form numbers, if applicable: Not applicable.

Members of affected public: For-profit business (mortgage companies, thrift, savings & loans, etc.).

Estimation of the total number of hours needed to prepare the information collection, including number of respondents, frequency of response, and hours of response:

Type of information collection | Type of information collection (prepared by) | Number of participants/respondents | Frequency per year information submitted | Estimated annual frequency | Estimated average time to complete information | Estimated annual burden hours
REMIC Securities:
Pricing Letter | Sponsor | 16 | 10 | 160 | 0.5 | 50
Structured Term Sheet | Sponsor | 16 | 10 | 160 | 3 | 300
Trust Agreement | Attorney for Sponsor | 16 | 10 | 160 | 1 | 100
Trust Opinion | Attorney for Sponsor | 16 | 10 | 160 | 4 | 400
MX Trust Agreement | Attorney for Sponsor | 16 | 10 | 160 | 0.16 | 16
MX Trust Opinion | Attorney for Sponsor | 16 | 10 | 160 | 4 | 400
RR Certificate | Attorney for Sponsor | 16 | 10 | 160 | 0.08 | 8
Sponsor Agreement | Attorney for Sponsor | 16 | 10 | 160 | 0.05 | 5
Table of Contents | Attorney for Sponsor | 16 | 10 | 160 | 0.33 | 33
Issuance Statement | Attorney for Sponsor | 16 | 10 | 160 | 0.5 | 50
Tax Opinion | Attorney for Sponsor | 16 | 10 | 160 | 4 | 400
Transfer Affidavit | Attorney for Sponsor | 16 | 10 | 160 | 0.08 | 8
Supplemental Statement | Attorney for Sponsor | 16 | 10 | 160 | 1 | 100
Final Data Statements (attached to closing letter) | Attorney for Sponsor | 16 | 10 | 160 | 32 | 3200
Accountants' Closing Letter | Accountant | 16 | 10 | 160 | 8 | 800
Accountants' OSC Letter | Accountant | 16 | 10 | 160 | 8 | 800
Structuring Data | Accountant | 16 | 10 | 160 | 8 | 800
Financial Statements | Accountant | 16 | 10 | 160 | 1 | 160
Principal and Interest Factor File Specifications | Trustee | 16 | 10 | 160 | 16 | 1600
Distribution Dates and Statement | Trustee | 16 | 10 | 160 | 0.42 | 42
Term Sheet | Trustee | 16 | 10 | 160 | 2 | 200
New Issue File Layout | Trustee | 16 | 10 | 160 | 4 | 400
Flow of Funds | Attorney for Trustee | 16 | 10 | 160 | 0.16 | 16
Trustee Receipt | Trustee Attorney | 16 | 10 | 160 | 2 | 200
Data Verification Form | Trustee | 16 | 10 | 160 | 1 | 160
Total |  |  |  | 4000 |  | 16057.6
Platinum Securities:
Deposit Agreement | Depositor | 16 | 10 | 160 | 1 | 100
MBS Schedule | Depositor | 16 | 10 | 160 | 0.16 | 16
New Issue File Layout | Depositor | 16 | 10 | 160 | 4 | 400
Principal and Interest Factor File Specifications | Trustee | 16 | 10 | 160 | 16 | 2560
Data Verification Form | Trustee | 16 | 10 | 160 | 1 | 160
Total |  |  |  | 800 |  | 3398.4
Total Burden Hours |  |  |  | 4800 |  | 19456

Calculation of Burden Hours:

Participants × Frequency per Year = Estimated Annual Frequency.

Estimated Annual Frequency × Estimated Average Completion Time = Estimated Annual Burden Hours.

Status of the proposed information collection: Reinstatement, with change, of previously approved collection for which approval has expired.

Authority: Section 3506 of the Paperwork Reduction Act of 1995, 44 U.S.C. Chapter 35, as amended.

Dated: September 2, 2003.
George S. Anderson,
Executive Vice President, Ginnie Mae.

[FR Doc. 03-22834 Filed 9-8-03; 8:45 am]

BILLING CODE 4210-66-M